DEPARTMENT OF COMMERCE

International Trade Administration

Proposed Information Collection; Comment Request; EU-U.S. Privacy Shield; Invitation for Applications for Inclusion on the List of Arbitrators

AGENCY: International Trade Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 6, 2017.

ADDRESSES: Direct all written comments to Jennifer Jessup, Departmental Paperwork Clearance Officer, Department of Commerce, Room 6616, 14th and Constitution Avenue NW., Washington, DC 20230 (or via the Internet at PRAcomments@doc.gov.

FOR FURTHER INFORMATION CONTACT: Requests for additional information or copies of the information collection instrument and instructions should be directed to Nasreen Djouini at the U.S. Department of Commerce, either by email at Nasreen.Djouini@trade.gov, or by fax at: 202-482-5522. More information on the arbitration mechanism may be found at https://www.privacyshield.gov/article?id=ANNEX-I-introduction.

SUPPLEMENTARY INFORMATION:

I. Abstract

The EU-U.S. Privacy Shield Framework was designed by the U.S. Department of Commerce (DOC) and the European Commission (Commission) to provide companies on both sides of the Atlantic with a mechanism to comply with data protection requirements when transferring personal data from the European Union to the United States in support of transatlantic commerce. On July 12, 2016, the Commission deemed the EU-U.S. Privacy Shield Framework (Privacy Shield) adequate to enable data transfers under EU law, and on August 1, 2016, the DOC began accepting self-certifications from U.S. companies to join the program (81 FR 47752; July 22, 2016). For more information on the Privacy Shield, visit www.privacyshield.gov.

As described in Annex I of the Privacy Shield, the DOC and the Commission have committed to implement an arbitration mechanism to provide European individuals with the ability to invoke binding arbitration to determine, for residual claims, whether an organization has violated its obligations under the Privacy Shield. Organizations voluntarily self-certify to the Privacy Shield and, upon certification, the commitments the organization has made to comply with the Privacy Shield become legally enforceable under U.S. law. Organizations that self-certify to the Privacy Shield commit to binding arbitration of residual claims if the individual chooses to exercise that option. Under the arbitration option, a Privacy Shield Panel (consisting of one or three arbitrators, as agreed by the parties) has the authority to impose individual-specific, non-monetary equitable relief (such as access, correction, deletion, or return of the individual's data in question) necessary to remedy the violation of the Privacy Shield only with respect to the individual. The parties will select the arbitrators from the list of arbitrators described below.

The DOC and the European Commission seek to develop a list of at least 20 arbitrators. To be eligible for inclusion on the list, applicants must be admitted to practice law in the United States and have expertise in both U.S. privacy law and EU data protection law. Applicants shall not be subject to any instructions from, or be affiliated with, any Privacy Shield organization, or the U.S., EU, or any EU Member State or any other governmental authority, public authority or enforcement authority.

Eligible individuals will be evaluated on the basis of independence, integrity, and expertise:

Independence

• Freedom from bias and prejudice.

Integrity

• Held in the highest regard by peers for integrity, fairness and good judgment.

• Demonstrates high ethical standards and commitment necessary to be an arbitrator.

Expertise

Required:

• Admission to practice law in the United States.

• Level of demonstrated expertise in U.S. privacy law and EU data protection law.

Other expertise that may be considered includes any of the following:

• Relevant educational degrees and professional licenses.

• Relevant professional or academic experience or legal practice.

• Relevant training or experience in arbitration or other forms of dispute resolution.

Evaluation of applications for inclusion on the list of arbitrators will be undertaken by the DOC and the Commission. Selected applicants will remain on the list for a period of 3 years, absent exceptional circumstances; change in eligibility, or for cause, renewable for one additional period of 3 years.

The DOC is in the process of selecting an administrator for Privacy Shield arbitrations.ᵃ Among other things, once selected, the Administrator will facilitate arbitrator fee arrangements, including the collection and timely payment of arbitrator fees and other expenses. Arbitrators are expected to commit their time and effort when included on the Privacy Shield List of Arbitrators and to take reasonable steps to minimize the costs or fees of the arbitration.

ᵃ For more information about the selection process and the role of the administrator, see https://www.privacyshield.gov/Arbitration-Fact-Sheet.

Arbitrators will be subject to a code of conduct consistent with Annex I of the Privacy Shield Framework and generally accepted ethical standards for arbitrators. The DOC and the Commission agreed to adopt an existing, well-established set of U.S. arbitral procedures to govern the arbitral proceedings, subject to considerations identified in Annex I of the Privacy Shield Framework, including that materials submitted to arbitrators will be treated confidentially and will only be used in connection with the arbitration. For more information, please visit https://www.privacyshield.gov/article?id=G-Arbitration-Procedures where you can find information on the arbitration procedures.

Applications

Eligible individuals who wish to be considered for inclusion on the EU-U.S. Privacy Shield List of Arbitrators are invited to submit applications by October 6, 2017 deadline. Applications must be typewritten and should be headed “Application for Inclusion on the EU-U.S. Privacy Shield List of Arbitrators.” Applications should include the following information, and each section of the application should be numbered as indicated:

—Name of applicant.

—Address, telephone number, and email address.

1. Independence

—Description of the applicant's affiliations with any Privacy Shield organization, or the U.S., EU, any EU Member State or any other governmental authority, public authority, or enforcement authority.

2. Integrity

—On a separate page, the names, addresses, telephone, and fax numbers of three individuals willing to provide information concerning the applicant's qualifications for service, including the applicant's character, reputation, reliability, and judgment.

—Description of the applicant's willingness and ability to make time commitments necessary to be an arbitrator.

3. Expertise

—Demonstration of admittance to practice law in the United States.

—Relevant academic degrees and professional training and licensing.

—Current employment, including title, description of responsibility, name and address of employer, and name and telephone number of supervisor or other reference.

—Employment history, including the dates and addresses of each prior position and a summary of responsibilities.

—Description of expertise in U.S. privacy law and EU data protection law.

—Description of training or experience in arbitration or other forms of dispute resolution, if applicable.

—A list of publications, testimony, and speeches, if any, concerning U.S. privacy law and EU data protection law, with copies appended.

II. Method of Collection

Please submit applications by September 25, 2017 deadline to Nasreen Djouini at the U.S. Department of Commerce, either by email at Nasreen.Djouini@trade.gov, or by fax at: 202-482-5522. More information on the arbitration mechanism may be found at https://www.privacyshield.gov/article?id=ANNEX-I-introduction.

III. Data

OMB Control Number: 0625-0277.

Form Number(s): None.

Type of Review: Regular submission.

Affected Public: private individuals.

Estimated Number of Respondents: 60.

Estimated Time per Response: 240 minutes.

Estimated Total Annual Burden Hours: 240 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental PRA Lead, Office of the Chief Information Officer.

[FR Doc. 2017-18896 Filed 9-6-17; 8:45 am]

BILLING CODE 3510-DS-P